DEPARTMENT OF ENERGY

Federal Energy Regulatory Commission

Combined Notice of Filings #1

Take notice that the Commission received the following electric corporate filings:

Docket Numbers: EC16-191-000.

Applicants: Black Hills/Colorado Electric Utility Co, Peak View Wind Energy LLC.

Description: Joint Application for Section 203 Authorization of Black Hills/Colorado Electric Utility Company, LP and Peak View Wind Energy LLC.

Filed Date: 9/26/16.

Accession Number: 20160926-5248.

Comments Due: 5 p.m. ET 10/17/16.

Take notice that the Commission received the following electric rate filings:

Docket Numbers: ER10-2721-007.

Applicants: El Paso Electric Company.

Description: Notice of Non-Material Change in Status of El Paso Electric Company.

Filed Date: 9/28/16.

Accession Number: 20160928-5194.

Comments Due: 5 p.m. ET 10/19/16.

Docket Numbers: ER12-2399-007.

Applicants: American Transmission Systems, Incorporated, PJM Interconnection, L.L.C.

Description: Compliance filing: ATSI submits SAs 4452, 4453, 4454 re: Settlement in Compliance w/ER12-2399-006 to be effective 9/25/2016.

Filed Date: 9/28/16.

Accession Number: 20160928-5151.

Comments Due: 5 p.m. ET 10/19/16.

Docket Numbers: ER15-1536-002.

Applicants: Midcontinent Independent System Operator, Inc.

Description: Compliance filing: 2016-09-28_White Pine 1 Compliance re Resettlement Costs to be effective N/A.

Filed Date: 9/28/16.

Accession Number: 20160928-5033.

Comments Due: 5 p.m. ET 10/19/16.

Docket Numbers: ER16-1363-001.

Applicants: Arizona Public Service Company.

Description: Compliance filing: Compliance Filing of Arizona Public Service Company to be effective 9/30/2016.

Filed Date: 9/28/16.

Accession Number: 20160928-5097.

Comments Due: 5 p.m. ET 10/19/16.

Docket Numbers: ER16-2684-000.

Applicants: Nippon Dynawave Packaging Co.

Description: Baseline eTariff Filing: MBRA Application to be effective 9/30/2016.

Filed Date: 9/29/16.

Accession Number: 20160929-5000.

Comments Due: 5 p.m. ET 10/20/16.

Docket Numbers: ER16-2685-000.

Applicants: Midcontinent Independent System Operator, Inc.

Description: Limited, one-time waiver request of Midcontinent Independent System Operator, Inc.

Filed Date: 9/28/16.

Accession Number: 20160928-5200.

Comments Due: 5 p.m. ET 10/19/16.

Docket Numbers: ER16-2686-000.

Applicants: Midcontinent Independent System Operator, Inc.

Description: § 205(d) Rate Filing: 2016-09-29_Cancel Schedule 43C Edwards 1 SSR Unit to be effective 12/1/2016.

Filed Date: 9/29/16.

Accession Number: 20160929-5020.

Comments Due: 5 p.m. ET 10/20/16.

Docket Numbers: ER16-2687-000.

Applicants: Chisholm View Wind Project II, LLC.

Description: Baseline eTariff Filing: MBR Tariff to be effective 10/29/2016.

Filed Date: 9/29/16.

Accession Number: 20160929-5023.

Comments Due: 5 p.m. ET 10/20/16.

Docket Numbers: ER16-2688-000.

Applicants: NorthWestern Corporation.

Description: § 205(d) Rate Filing: SA 791—Agreement with Montana DOT re Armington Slope Project to be effective 9/30/2016.

Filed Date: 9/29/16.

Accession Number: 20160929-5044.

Comments Due: 5 p.m. ET 10/20/16.

Docket Numbers: ER16-2689-000.

Applicants: NorthWestern Corporation.

Description: § 205(d) Rate Filing: SA 788—Agreement with Montana DOT re Lewistown 50-kV Pole Replacement to be effective 9/30/2016.

Filed Date: 9/29/16.

Accession Number: 20160929-5045.

Comments Due: 5 p.m. ET 10/20/16.

Docket Numbers: ER16-2690-000.

Applicants: PJM Interconnection, L.L.C.

Description: § 205(d) Rate Filing: Amendments to Service Agreements per Assignment of Queue Positions to be effective 5/10/2011.

Filed Date: 9/29/16.

Accession Number: 20160929-5049.

Comments Due: 5 p.m. ET 10/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2016.
Nathaniel J. Davis, Sr.,
Deputy Secretary.

[FR Doc. 2016-24106 Filed 10-4-16; 8:45 am]

BILLING CODE 6717-01-P